DEPARTMENT OF ENERGY

Federal Energy Regulatory Commission

[Docket Nos. IC19-32-000, IC19-33-000, and IC19-40-000]

Commission Information Collection Activities; Requests for Emergency Extensions for FERC-725M, FERC-516A, and FERC-539

AGENCY: Federal Energy Regulatory Commission, DOE.

ACTION: Notice of requests for emergency extensions.

SUMMARY: In compliance with the requirements of the Paperwork Reduction Act of 1995 (PRA), the Federal Energy Regulatory Commission (Commission or FERC) has solicited public comments on three information collections: FERC-725M (Mandatory Reliability Standard: FAC-003-4, Vegetation Management), FERC-516A (Standardization of Small Generator Interconnection Agreements and Procedures), and FERC-539 (Gas Pipeline Certificates: Import and Export Related Applications). FERC submitted requests to the Office of Management and Budget (OMB) for short-term emergency extensions for the three information collections to ensure they remain active while FERC completes the pending PRA renewal processes. No changes are being made to the reporting and recordkeeping requirements.

FOR FURTHER INFORMATION CONTACT: Ellen Brown may be reached by email at DataClearance@FERC.gov and telephone at (202) 502-8663.

SUPPLEMENTARY INFORMATION: The PRA renewal process for each of the three information collections is ongoing. To ensure that OMB approvals of the current information collections remain active during the PRA renewal process, FERC has submitted requests to the OMB for short-term emergency extensions.

Title: FERC-725M, Mandatory Reliability Standard: FAC-003-4, Vegetation Management (OMB Control No. 1902-0263).

Docket No. for Ongoing PRA Renewal: IC19-32.

An emergency extension request and justification (for three additional months) were electronically submitted to OMB on September 20, 2019. OMB disapproved the emergency extension request and collection on October 2, 2019. FERC then submitted a formal request to OMB on October 8, 2019,¹ for an emergency reinstatement and three-month extension. The request is still pending at OMB.

¹ The letter is dated October 7, 2019.

Titles: FERC-516A, Standardization of Small Generator Interconnection Agreements and Procedures (OMB Control No. 1902-0203); and FERC-539, Gas Pipeline Certificates: Import and Export Related Applications (OMB Control No. 1902-0062).

Docket Nos. for Ongoing PRA Renewals: IC19-40 (for FERC-516A) and IC19-33 (for FERC-539).

FERC submitted formal requests to OMB on October 29, 2019, for emergency three-month extensions (to January 31, 2020). On October 31, 2019, OMB approved two-month extensions to December 31, 2019, for FERC-516A and FERC-539.

Dated: November 1, 2019.
Kimberly D. Bose,
Secretary.

[FR Doc. 2019-24615 Filed 11-12-19; 8:45 am]

BILLING CODE 6717-01-P